SECURITIES AND EXCHANGE COMMISSION

[Release No. 34-60653; File No. SR-NYSE-2009-89]

Self-Regulatory Organizations; New York Stock Exchange LLC; Notice of Filing of Proposed Rule Change As Modified by Amendment No. 1 To Amend Certain Corporate Governance Requirements

Correction

In notice document E9-22392 beginning on page 47831 in the issue of Thursday, September 17, 2009, make the following correction:

On page 47837, in the third column, in the 24th line from the top, “October 5, 2009” should read “October 8, 2009”.

[FR Doc. Z9-22392 Filed 9-22-09; 8:45 am]

BILLING CODE 1505-01-D